DEPARTMENT OF LABOR

Employment and Training Administration

[TA-W-37,261, and TA-W-37,261A)

Ithaca Industries, Inc., Glennville, Georgia; Corporate Headquarters, Wilkesboro, North Carolina; Amended Certification Regarding Eligibility To Apply for Worker Adjustment Assistance

In accordance with Section 223 of the Trade Act of 1974 (19 U.S.C. 2273) the Department of Labor issued a Notice of Certification Regarding Eligibility to Apply for Worker Adjustment Assistance on February 29, 2000, applicable to workers of Ithaca Industries, Inc., Glennville, Georgia. The notice was published in the Federal Register on March 17, 2000 (65 FR 14627).

At the request of the company, the Department reviewed the certification for workers of the subject firm. New information shows that worker separations occurred at the Corporate Office, Wilkesboro, North Carolina location of Ithaca Industries, Inc. The Corporate Office provides administration and support function services for Ithaca's manufacturing plants located throughout North Carolina and Georgia.

The intent of the Department's certification is to include all workers of Ithaca Industries, Inc. who were adversely affected by increased imports. Accordingly, the Department is amending the worker certification to cover the workers of Ithaca Industries, Inc., Corporate Office, Wilkesboro, North Carolina.

The amended notice applicable to TA-W-37,261 is hereby issued as follows:

“All workers of Ithaca Industries, Inc., Glennville, Georgia (TA-W-37,261), and Corporate Office, Wilkesboro, North Carolina (TA-W-37,261A) who became totally or partially separated from employment on or after January 6, 1999 through March 1, 2002 are eligible to apply for adjustment assistance under Section 223 of the Trade Act of 1974.”

Signed at Washington D.C. this 1st day of June, 2000.
Grant D. Beale,
Program Manager, Division of Trade Adjustment Assistance.

[FR Doc. 00-14468 Filed 6-7-00; 8:45 am]

BILLING CODE 4510-30-M